DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Subsistence Fishery For Pacific Halibut in Waters Off Alaska: Registration and Marking of Gear.

Form Number(s): None.

OMB Approval Number: 0648-0460.

Type of Request: Regular submission.

Burden Hours: 1,816.

Number of Respondents: 15,983.

Average Hours Per Response: Applications, 10 minutes; gear-marking, 15 minutes.

Needs and Uses: This submission seeks renewal of collection-of-information requirements that are part of the program for the Pacific halibut subsistence fishery. The program includes requirements for registration to participate in the fishery, and the marking of setline buoys or kegs used in this fishery. The registration requirement is intended to allow qualified persons to practice the long-term customary and traditional harvest of Pacific halibut for food in a non-commercial manner. The gear-marking requirement aids in enforcement and in actions related to gear damage or loss.

The registration information may be submitted by an individual or as a list of multiple individuals from an Alaska Native tribe. The submissions may be made by mail, fax, e-mail or on-line.

Affected Public: Not-for-profit institutions; business or other for-profit organizations; State, Local or Tribal Government.

Frequency: Applications, every two or four years; gear marking, annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: October 18, 2006.
Gwellnar Banks,
Management Analyst, Office of the Chief Information Officer.

[FR Doc. E6-17740 Filed 10-23-06; 8:45 am]

BILLING CODE 3510-22-P